DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Nurse Faculty Loan Program—New Program Specific Data Form.

OMB No.: 0915-xxxx—NEW.

Abstract: This clearance request is for approval of the new Nurse Faculty Loan Program (NFLP) Program Specific Data Form. The form was previously approved under OMB Approval No: 0915-0061 and expired on June 30, 2013. The data form was discontinued under the old approval number.

Need and Proposed Use of the Information: The NFLP Program Specific Data Form is included as an electronic attachment with the required application materials. The data provided in the form are essential for the formula-based criteria used to determine the award amount to the applicant schools. Approval of the new NFLP Program Specific Data Form will facilitate our current effort to address the specific program goal of capturing data to efficiently generate the formula-based award. The electronic data collection capability will streamline the application submission process, enable an efficient award determination process, and serve as a data repository to facilitate reporting on the use of funds and analysis of program outcomes.

Likely Respondents: NFLP eligible applicants. This includes accredited collegiate schools of nursing and other qualified academic departments offering eligible advanced master's and/or doctoral degree nursing education programs that will prepare students to teach.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
NFLP—Program Specific Data Form | 250 | 1 | 250 | 8.0 | 2,000
Total | 250 | 1 | 250 | 8.0 | 2,000

HRSA specifically requests comments on (1) The necessity and utility of the proposed information collection for the proper performance of the agency's functions, (2) the accuracy of the estimated burden, (3) ways to enhance the quality, utility, and clarity of the information to be collected, and (4) the use of automated collection techniques or other forms of information technology to minimize the information collection burden.

Dated: October 28, 2013.
Bahar Niakan,
Director, Division of Policy and Information Coordination.

[FR Doc. 2013-26055 Filed 10-31-13; 8:45 am]

BILLING CODE 4165-15-P